DEPARTMENT OF THE INTERIOR

National Park Service

National Register of Historic Places; Notification of Pending Nominations

Nominations for the following properties being considered for listing in the National Register were received by the National Park Service before August 24, 2002. Pursuant to section 60.13 of 36 CFR part 60 written comments concerning the significance of these properties under the National Register criteria for evaluation may be forwarded by United States Postal Service, to the National Register Historic Places, National Park Service, 1849 C St. NW, NC400, Washington, DC 20240; by all other carriers, National Register of Historic Places, National Park Service, 1201 Eye St. NW., 8th floor, Washington DC 20005; or by fax, 202-343-1836. Written or faxed comments should be submitted by October 8, 2002.

Carol D. Shull,
Keeper of the National Register of Historic Places.

ALABAMA

Cullman County

Shady Grove Methodist Church and Cemetery, Ruby Community 3.7 mi. W of Logan, Logan, 02001067

Jefferson County

Cahaba Homestead Village Historic District, Roughly along Lake St., Rockbridge Ave., Meadow Ln., Magnolia St., and Magnolia Court., Trussville, 02001070

Lauderdale County

Locust Street Historic District, Roughly bounded by Pine St., College St., Locust St., and Irvine Ave., Florence, 02001065

Montgomery County

Mt. Zion AME Zion Church, 467 Holt St., Montgomery, 02001066

Tuscaloosa County

Johnson, Samuel, House, Shelley Hughes Rd., Buhl, 02001069

University of Alabama Historic District, 152 Rose Administration Building, Tuscaloosa, 02001068

ARKANSAS

Benton County

Rogers Commercial Historic District (Boundary Increase), (Benton County MRA) 116 S, Second St., Rogers, 02001079

Boone County

Cottonwood School #45, Cottonwood and Dubuque Rd., Self, 02001078

Clay County

Eastern Star Lodge 207 F&AM, Approx. 1.5 mi. W on Cty Rte. 336, then 0.5 S ib Cty Rte. 347, St. Francis, 02001074

Cleveland County

Phoenix Hotel, 108 Main St., Rison, 02001071

Independence County

Akron Cemetery, Approx. 2 mi. S of Newark on AR 122, Newark, 02001072

Jefferson County

Wabbaseka Methodist Episcopal Church, South, US 79, Wabbeseka, 02001073

Logan County

Troy Lasater Service Station, (New Blaine, Arkansas MPS) AR 197 Loop, New Blaine, 02001075

ARKANSAS

Sharp County

Bates, Sherman and Merlene, House, (Hardy, Arkansas MPS) Jct. of Dawson and Echo, Hardy, 02001077

King, David L., House, (Hardy, Arkansas MPS) 2nd and Kelly St., Hardy, 02001076

Washington County

Smyth, Peter, House, 1629 Crossover St., Fayetteville, 02001080

FLORIDA

Alachua County

Dudley Farm, 18730 W. Newberry Rd., Newberry, 02001081

Bay County

Schmidt-Godert Farm, 100 FL 2297, Panama City, 02001083

MASSACHUSETTS

Middlesex County

Lowell Post Office, 89 Appleton St., Lowell, 02001084

Plymouth County

Kingston Center Historic District, Main, Green Sts, Kingston, 02001085

MISSOURI

Marion County

Marion County Jail and Jailor's House, 210 W. Lafayette St., Palmyra, 02001100

St. Louis County

Bayley, Romanzo N., House, (Kirkwood MPS) 419 E. Argonne, Kirkwood, 02001086

Blake, John P. and Dora, House, (Kirkwood MPS) 549 N. Taylor, Kirkwood, 02001087

Clarke, Judge Enos, House, (Kirkwood MPS) 503 E. Monroe, Kirkwood, 02001088

Comfort, James H. and Marietta, House, (Kirkwood MPS) 235 E. Jefferson, Kirkwood, 02001089

Fishback, George W. and Virginia, House, (Kirkwood MPS) 440 E. Argonne, Kirkwood, 02001090

Halsey, Egbert W., Cottage, (Kirkwood MPS) 126 E. Washington, Kirkwood, 02001091

Keith, David, House, (Kirkwood MPS) 116 N. Woodlawn, Kirkwood, 02001094

McLagan, Lizzie, House, (Kirkwood MPS) 549 E. Argonne, Kirkwood, 02001092

McMullen, Patrick and Moire, House, (Kirkwood MPS) 212 W. Monroe, Kirkwood, 02001093

Nipher, Prof. Frances E., House, (Kirkwood MPS) 435 N. Harrison, Kirkwood, 02001095

Richter, Theodore and Lena, House, (Kirkwood MPS) 229 S. Van Buren, Kirkwood, 02001096

Tolhurst, G.W., House, (Kirkwood MPS) 345 E. Argonne, Kirkwood, 02001097

Unsell, Elijah J., House, (Kirkwood MPS) 615 E. Monroe, Kirkwood, 02001098

Way, James W. and Mary, House, (Kirkwood MPS) 305 N. Harrison, Kirkwood, 02001099

MONTANA

Lewis and Clark County

Lewis and Clark County Hospital Historic District, 3404 Cooney Dr., Helena, 02001101

OHIO

Summit County

Price, Jonathan, House, (Canal, Railroad, and Industrial Resources of the Village of Clinton/Warwick, Ohio MPS) 7903 Main St., Clinton, 02001103

Smith, David, House, (Canal, Railroad, and Industrial Resources of the Village of Clinton/Warwick, Ohio MPS) 7966 Cleveland-Massillon Rd., Clinton, 02001104

TEXAS

Harris County

Kress Building, 705 Main St., Houston, 02001102

WISCONSIN

Brown County

De Pere Public Library, (Public Library Facilities of Wisconsin MPS) 380 Main Ave., De Pere, 02001106

Waupaca County

Delong, Henry and Elizabeth, House, 509 W. Fulton St., Waupaca, 02001105

Jensen, Matt and Lena, House, 501 W. Fulton St., Waupaca, 02001108

Mumbrue-Penney House, 404 S. Main St., Waupaca, 02001107

Olfson, Peter and Jessie, House, 415 Granite St., Waupaca, 02001082

[FR Doc. 02-24058 Filed 9-20-02; 8:45 am]

BILLING CODE 4310-70-P